DEPARTMENT OF DEFENSE

Defense Acquisition Regulations System

48 CFR Parts 203, 204, 212, and 215

[Docket DARS-2023-0043]

RIN 0750-AK33

Defense Federal Acquisition Regulation Supplement: Inapplicability of Additional Defense-Unique Laws and Certain Non-Statutory DFARS Clauses to Commercial Item Contracts (DFARS Case 2018-D074); Extension of Comment Period

AGENCY: Defense Acquisition Regulations System, Department of Defense (DoD).

ACTION: Proposed rule; extension of comment period.

SUMMARY: DoD published a proposed rule on November 17, 2023, proposing to amend the Defense Federal Acquisition Regulation Supplement (DFARS) to implement sections of the National Defense Authorization Acts for Fiscal Years 2018 and 2019 regarding applicability of certain solicitation provisions and contract clauses to contracts and subcontracts for commercial products, commercial services, and commercially available off-the-shelf items. The deadline for submitting comments is being extended to provide additional time for interested parties to provide comments.

DATES: The comment period for the proposed rule published November 17, 2023, at 88 FR 80468, is being extended. Comments on the proposed rule should be submitted in writing to the address shown in ADDRESSES on or before March 15, 2024, to be considered in the formation of a final rule.

ADDRESSES: Submit comments identified by DFARS Case 2018-D074, using either of the following methods:

○ Federal eRulemaking Portal: https://www.regulations.gov. Search for “DFARS Case 2018-D074”. Select “Comment” and follow the instructions to submit a comment. Please include “DFARS Case 2018-D074” on any attached documents.

○ Email: osd.dfars@mail.mil. Include DFARS Case 2018-D074 in the subject line of the message.

Comments received generally will be posted without change to https://www.regulations.gov, including any personal information provided. To confirm receipt of your comment(s), please check https://www.regulations.gov, approximately two to three days after submission to verify posting.

FOR FURTHER INFORMATION CONTACT: Ms. Jeanette Snyder, telephone 703-508-7524.

SUPPLEMENTARY INFORMATION: On November 17, 2023, DoD published a proposed rule in the Federal Register at 88 FR 80468 seeking public comment on the proposed rule to amend the DFARS to implement sections of the National Defense Authorization Acts for Fiscal Year 2018 and 2019. These sections address requirements related to the applicability of DFARS solicitation provisions and contract clauses to commercial products, commercial services, and commercially available off-the-shelf items.

The comment period for the proposed rule is extended to March 15, 2024, to provide additional time for interested parties to comment on the proposed rule.

List of Subjects in 48 CFR Part 203, 204, 212, and 215

Government procurement.

Jennifer D. Johnson,
Editor/Publisher, Defense Acquisition Regulations System.

[FR Doc. 2023-28413 Filed 12-26-23; 8:45 am]

BILLING CODE 6001-FR-P